FEDERAL COMMUNICATIONS COMMISSION

47 CFR Part 73

[DA 01-1480; MM Docket No. 00-158; RM-9337, RM-9892]

Radio Broadcasting Services; Alamo Community, NM

AGENCY: Federal Communications Commission.

ACTION: Final rule; correction.

SUMMARY: The Federal Communications Commission published in the Federal Register of September 15, 2000, 65 FR 55930, a document concerning updating Section 73.202(b), the FM Table of Allotments for Radio Broadcasting Services; Alamo Community, New Mexico of the Commission Rules. The docket number listed in the heading was published incorrectly. The correct docket number is set forth above.

DATES: Effective on March 25, 2002.

FOR FURTHER INFORMATION CONTACT: Robert Hayne, Mass Media Bureau (202) 418-2177.

Federal Communications Commission.
John A. Karousos,
Chief, Allocations Branch, Policy and Rules Division, Mass Media Bureau.

[FR Doc. 02-7018 Filed 3-22-02; 8:45 am]

BILLING CODE 6712-01-P